DEPARTMENT OF COMMERCE

International Trade Administration

[A-520-807]

Circular Welded Carbon Quality Steel Pipe From the United Arab Emirates: Notice of Court Decision Not in Harmony With the Results of Antidumping Administrative Review; Notice of Amended Final Results

AGENCY: Enforcement and Compliance, International Trade Administration, Department of Commerce.

SUMMARY: On March 3, 2023, the U.S. Court of International Trade (CIT) issued its final judgment in Ajmal Steel Tubes & Pipes Industries LLC. v. United States, Consol. Court No. 21-00587, sustaining the Department of Commerce (Commerce)'s remand results pertaining to the administrative review of the antidumping duty (AD) order on circular welded carbon-quality steel pipe from the United Arab Emirates (UAE) covering the period December 1, 2018, through November 30, 2019. Commerce is notifying the public that the CIT's final judgment is not in harmony with Commerce's final results of the administrative review, and that Commerce is amending the final results with respect to the dumping margin assigned to Ajmal Steel Tubes & Pipes Industries LLC (Ajmal).

DATES: Applicable March 13, 2023.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On October 27, 2021, Commerce published its Final Results in the 2018-2019 AD administrative review of circular welded carbon-quality steel pipe from UAE.¹ Commerce found that the use of facts available was warranted, pursuant to section 776(a) of the Tariff Act of 1930, as amended (the Act), and that Ajmal failed to cooperate to the best of its ability to comply with a request for information, within the meaning of section 776(b)(1) of the Act. Consequently, Commerce assigned Ajmal the highest dumping margin alleged in the petition (i.e., 54.27 percent), in accordance with section 776(b) of the Act and 19 CFR 351.308(a).²

¹ See Circular Welded Carbon-Quality Steel Pipe from the United Arab Emirates: Final Results of Antidumping Duty Administrative Review; 2018-2019, 86 FR 59364 (October 27, 2021) (Final Results).

² See Circular Welded Carbon-Quality Steel Pipe from the Sultanate of Oman, Pakistan, the Philippines, the United Arab Emirates, and the Socialist Republic of Vietnam: Initiation of Less-Than-Fair-Value Investigations, 80 FR 73708, 73712 (November 17, 2015).

Ajmal appealed Commerce's Final Results. On October 28, 2022, the CIT remanded the Final Results to Commerce to accept and consider Ajmal's section A response and to determine a new estimated dumping margin for Ajmal that does not resort to section 776 of the Act with respect to the filing of the company's response to section A of the questionnaire.³

³ See Ajmal Steel Tubes & Pipes Industries LLC. v. United States, Slip Op. 22-121, Consol. Court No. 21-00587 (CIT 2022) at 11.

In its final remand redetermination, issued in January 2023, Commerce calculated Ajmal's weighted-average dumping margin based on Ajmal's reported data.⁴ The CIT sustained Commerce's final redetermination.⁵

⁴ See Final Results of Redetermination Pursuant to Court Remand, Ajmal Steel Tubes & Pipes Industries LLC. v. United States, Consol. Court No. 21-00587, Slip Op. 22-121, dated January 26, 2023, available at https://access.trade.gov/Resources/remands/22-121.pdf.

⁵ See Ajmal Steel Tubes & Pipes Industries LLC. v. United States, Slip Op. 23-27, Court No. 21-00587 (CIT 2023).

Timken Notice

In its decision in Timken,⁶ as clarified by Diamond Sawblades,⁷ the Court of Appeals for the Federal Circuit held that, pursuant to section 516A(c) and (e) of the Act, Commerce must publish a notice of court decision that is not “in harmony” with a Commerce determination and must suspend liquidation of entries pending a “conclusive” court decision. The CIT's March 3, 2023, judgment constitutes a final decision of the CIT that is not in harmony with Commerce's Final Results. Thus, this notice is published in fulfillment of the publication requirements of Timken.

⁶ See Timken Co. v. United States, 893 F.2d 337 (Fed. Cir. 1990) (Timken).

⁷ See Diamond Sawblades Mfrs.' Coal. v. United States, 626 F.3d 1374 (Fed. Cir. 2010) (Diamond Sawblades).

Amended Final Results

Because there is now a final court judgment, Commerce is amending its Final Results with respect to Ajmal as follows:

Exporter/producer | Weighted- average dumping margin (percent)
Ajmal Steel Tubes & Pipes Ind. LLC | 0.57

Cash Deposit Requirements

Because Ajmal has a superseding cash deposit rate, i.e., there have been final results published in a subsequent administrative review, we will not issue revised cash deposit instructions to U.S. Customs and Border Protection (CBP). This notice will not affect the current cash deposit rate.

Liquidation of Suspended Entries

At this time, Commerce remains enjoined by CIT order from liquidating entries that: were produced and exported by Ajmal and entered, or withdrawn from warehouse, for consumption during the period December 1, 2018, through November 30, 2019. These entries will remain enjoined pursuant to the terms of the injunction during the pendency of any appeals process.

In the event the CIT's ruling is not appealed, or, if appealed, upheld by a final and conclusive court decision, Commerce intends to instruct CBP to assess antidumping duties on unliquidated entries of subject merchandise produced and exported by Ajmal in accordance with 19 CFR 351.212(b). We will instruct CBP to assess antidumping duties on all appropriate entries covered by this review when the importer-specific ad valorem assessment rate is not zero or de minimis. Where an import-specific ad valorem assessment rate is zero or de minimis,⁸ we will instruct CBP to liquidate the appropriate entries without regard to antidumping duties.

⁸ See 19 CFR 351.106(c)(2).

Notification to Interested Parties

This notice is issued and published in accordance with sections 516A(c) and (e) and 777(i)(1) of the Act.

Dated: March 8, 2023.
Lisa W. Wang,
Assistant Secretary for Enforcement and Compliance.

[FR Doc. 2023-05194 Filed 3-13-23; 8:45 am]

BILLING CODE 3510-DS-P